DEPARTMENT OF HEALTH AND HUMAN SERVICES

Expert Meeting on Disease Management Outcomes Measurement

AGENCY: Department of Health and Human Services, Office of the Assistant Secretary for Planning and Evaluation.

ACTION: Notice of meeting.

SUMMARY: This notice announces the date and location of the Department of Health and Human Services, Office of the Assistant Secretary for Planning and Evaluation (HHS/ASPE) Expert Meeting on Disease Management Outcomes Measurement. The objective of the meeting is to convene a panel of experts from government, academia, and private industry to discuss measurement of the impact of disease management on health outcomes and costs of care, with a focus on potential for public sector programs.

DATES: Wednesday, January 16, 2008, from 9 a.m. to 5 p.m. Eastern Time.

ADDRESSES: The Expert Meeting will be held at 1200 South Hayes Street, Room 4204, Arlington, VA 22202-5050. Telephone: (703) 413-1100. Registration procedures are described in the SUPPLEMENTARY INFORMATION section below.

FOR FURTHER INFORMATION CONTACT: Adelle Simmons, Office of the Assistant Secretary for Planning and Evaluation, 200 Independence Avenue, SW., Washington, DC 20201. Telephone: (202) 690-5924.

SUPPLEMENTARY INFORMATION:

I. Background

In the face of increasing health care costs, evidence of the need for system-wide health care quality improvement, and an aging population, disease management seems an intuitively appealing way to improve the coordination and quality of care, and ultimately improve health outcomes. In broad terms, disease management refers to a system of coordinated health care interventions and communications to help patients address chronic health conditions. Commercial health plans and large employers are embracing this strategy, and public purchasers of health care services including the Centers for Medicare and Medicaid Services (CMS) have implemented demonstration programs to evaluate disease management for certain conditions.

Questions about the effectiveness of disease management remain, in part, because the evaluation methods of vendors of large, population-based programs often lack scientific validity. Conversely, vendors often argue that scientifically credible approaches, like a randomized controlled experiment that the Medicare Health Support pilot uses, are not feasible for routine operation. Thus, the lack of universally accepted yet feasible evaluation methods are a major obstacle to adopting and improving disease management, because potential purchasers of such programs find it hard to identify the best program design and to monitor its success. A primary goal of this meeting is to consider the variety of disease management programs and identify strategies to improve the assessment of their impact on individuals with multiple chronic conditions.

II. Registration

The meeting is open to the public, and pre-registration is encouraged. Seating capacity is limited, so registration will be accepted on a first-come, first-served basis. Registration can be completed by sending an e-mail message to Ms. Emily Taylor of the RAND Corporation at etaylor@rand.org (The RAND Corporation is the Contractor to HHS/ASPE to provide logistical support for the Expert Meeting.) To register by telephone, contact Ms. Taylor at (703) 413-1100 ext. 5793.

The following information must be provided when registering: Name, Company/Organization, and address. A RAND Corporation staff member will confirm registrations by mail, e-mail, or fax.

Note: In the event that the meeting must be canceled due to inclement weather, the meeting will be held at a later date, and registrants will be notified by RAND.

III. Special Accommodations

Individuals who are hearing- or visually-impaired and have special requirements or a condition that requires special assistance must request accommodation when registering for the meeting in order to ensure that accommodations will be made.

Dated: December 12, 2007.
Mary M. McGeein,
Principal Deputy Assistant Secretary for Planning and Evaluation, Department of Health and Human Services.

[FR Doc. 07-6057 Filed 12-14-07; 8:45 am]

BILLING CODE 4150-24-M